FARM CREDIT ADMINISTRATION

Sunshine Act Meetings

TIME AND DATE: 9 a.m., Thursday, October 13, 2022.

PLACE: You may observe the open portions of this meeting in person at 1501 Farm Credit Drive, McLean, Virginia 22102-5090, or virtually. If you would like to observe, at least 24 hours in advance, visit FCA.gov, select “Newsroom,” then select “Events.” From there, access the linked “Instructions for board meeting visitors” and complete the described registration process.

STATUS: Parts of this meeting will be open to the public. The rest of the meeting will be closed to the public.

MATTERS TO BE CONSIDERED: The following matters will be considered:

PORTIONS OPEN TO THE PUBLIC:

• Approval of September 8, 2022, Minutes

• Bookletter-049 Revised—Adequacy of Farm Credit System Institutions' Allowance for Credit Losses for Financial Assets Measured at Amortized Cost

PORTIONS CLOSED TO THE PUBLIC:

• Office of Secondary Market Oversight Periodic Report ¹

¹ Session Closed-Exempt pursuant to 5 U.S.C. Section 552b(c)(8) and (9).

CONTACT PERSON FOR MORE INFORMATION: If you need more information or assistance for accessibility reasons, or have questions, contact Ashley Waldron, Secretary to the Board. Telephone: 703-883-4009. TTY: 703-883-4056.

Ashley Waldron,
Secretary to the Board.

[FR Doc. 2022-21350 Filed 9-28-22; 11:15 am]

BILLING CODE 6705-01-P